DEPARTMENT OF ENERGY

Federal Energy Regulatory Commission

[Project No. 13346-000]

Paynebridge, LLC; Notice of Preliminary Permit Applications Accepted for Filing and Soliciting Comment, Motions To Intervene, and Competing Applications

February 11, 2009.

On December 16, 2008, Paynebridge, LLC filed an application, pursuant to section 4(f) of the Federal Power Act, proposing to study the feasibility of the William Dam Project, to be located on the East Fork of the White River, Lawrence County, Indiana.

The proposed William Dam Project consists of: (1) A proposed 280-foot-long, 21.7-foot-high William Dam, (2) a proposed reservoir having a surface area of 263 acres, with a storage capacity of 2,680 acre-feet and normal water surface elevation of 475 feet mean sea level, (3) an existing powerhouse containing four generaters with a total installed capacity of 4 megawatts, (4) a proposed 200-foot-long, 12.4 kilovolt transmission line, and (5) appurtenant facilities. The Paynebridge, LLC, project would have an average annual generation of 20 gigawatt-hours, which would be sold to a local utility.

Applicant Contact: Mr. Dan Irvin, Paynebridge, LLC, 33 Commercial Street, Gloucester, MA 01930, phone (978) 252-7631.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13346) in the docket number field to access the document. For assistance, call toll-free 1-866-208-3372.

Kimberly D. Bose,
Secretary.

[FR Doc. E9-3455 Filed 2-18-09; 8:45 am]

BILLING CODE 6717-01-P